ENVIRONMENTAL PROTECTION AGENCY

[FRL-9946-10-OARM; EPA-HQ-OARM-2016-0214]

Public Availability of Environmental Protection Agency FY 2015 Service Contract Inventory

AGENCY: Environmental Protection Agency (EPA).

ACTION: Notice.

SUMMARY: In accordance with Section 743 of Division C of the Consolidated Appropriations Act of 2010 (Public Law 111-117), the Environmental Protection Agency (EPA) is publishing this notice to advise the public of the availability of the FY 2015 Service Contract Inventory. This inventory provides information on service contract actions over $25,000 that were made in FY 2015. The information is organized by function to show how contracted resources are distributed throughout the Agency. The inventory has been developed in accordance with guidance issued by the Office of Management and Budget's Office of Federal Procurement Policy (OFPP), Service Contract Inventories (December 19, 2011). The Environmental Protection Agency has posted its inventory and a summary of the inventory on the EPA's homepage at the following link: http://www.epa.gov/oam/inventory/inventory.htm

FOR FURTHER INFORMATION CONTACT: Questions regarding the service contract inventory should be directed to Linear Cherry in the Office of Acquisition Management, Policy, Training, and Oversight Division (3802R), Financial Analysis and Oversight Service Center, Environmental Protection Agency, 1200 Pennsylvania Avenue NW., Washington, DC 20460; telephone number: (202) 564-4403; email address: cherry.linear@epa.gov.

SUPPLEMENTARY INFORMATION:

General Information

How can I get copies of this docket and other related information?

1. The EPA has established a docket for this action under Docket ID No. EPA-HQ-OARM-2016-0214. Publicly available docket materials are available either electronically through www.regulations.gov or in hard copy at the FY 2015 Service Contract Inventory Docket in the EPA Docket Center, (EPA/DC) EPA West, Room 3334, 1301 Constitution Avenue NW., Washington, DC. The EPA Docket Center Public Reading Room is open from 8:30 a.m. to 4:30 p.m., Monday through Friday, excluding legal holidays. The telephone number for the Public Reading Room is (202) 566-1744, and the telephone number for the FY 2015 Service Contract Inventory Docket is (202) 566-1752.

2. Electronic Access. You may access this Federal Register document electronically through the EPA Internet under the “Federal Register” listings at http://www.epa.gov/fedrgstr/.

Dated: April 12, 2016.
John R. Bashista,
Director, Office of Acquisition Management.

[FR Doc. 2016-10756 Filed 5-5-16; 8:45 am]

BILLING CODE 6560-50-P